ENVIRONMENTAL PROTECTION AGENCY

[FRL-7164-9]

National Symposium: Designating Attainable Uses for the Nation's Waters

AGENCY: Environmental Protection Agency (EPA).

ACTION: Notice of public meeting.

SUMMARY: EPA is announcing plans for a national symposium on the topic of “Designating Attainable Uses for the Nation's Waters.” Interested citizens, government officials, and regulated parties are invited to attend the symposium. Potential speakers are invited to submit abstracts of presentations for consideration as case studies or new approaches addressing this topic. Many interested parties have expressed to EPA the need for additional guidance on establishing the protection levels or “designated uses” of waterbodies (e.g., aquatic life, recreation, navigation) and the process to follow when making designated uses more or less protective. EPA believes it is important to resolve questions concerning use designations and is considering developing guidance addressing key questions. This symposium will help EPA hear diverse views on this subject.

DATES: The symposium will be held on June 3-4, 2002.

ADDRESSES: The symposium will be held at the Marriott Wardman Park Hotel, 2660 Woodley Road, NW, Washington, DC 20008.

FOR FURTHER INFORMATION CONTACT: Cara Lalley, U.S. Environmental Protection Agency, 1200 Pennsylvania Avenue, NW, Mail Code 4305, Washington, DC 20460; (202) 260-0314; lalley.cara@epa.gov; or visit http://www.epa.gov/waterscience/standards/symposium.

SUPPLEMENTARY INFORMATION: This symposium will include a series of short (15 minute) presentations, grouped by topic, by speakers selected from among those submitting abstracts in response to this announcement. It may also include short panel presentations, small group discussions, or an open comment session. Check http://www.epa.gov/waterscience/standards/symposium in May for a draft agenda.

If you need special accommodations at this meeting (for example, wheelchair access or sign language translators), you should contact Cara Lalley at (202) 260-0314 by May 24, 2002 so that EPA can make appropriate arrangements.

Dated: March 22, 2002.
Geoffrey H. Grubbs,
Director, Office of Science and Technology.

[FR Doc. 02-7635 Filed 3-28-02; 8:45 am]

BILLING CODE 6560-50-P